DEPARTMENT OF TRANSPORTATION

Federal Aviation Administration

14 CFR Part 71

[Docket No. FAA-2005-21142; Airspace Docket No. 05-AEA-12]

Amendment of Class E Airspace; Brunswick, ME

AGENCY: Federal Aviation Administration (FAA), DOT.

ACTION: Direct final rule; request for comments.

SUMMARY: This action amends the Class E-4 airspace area at Brunswick Naval Air Station (NAS), ME. This action is prompted by the relocation of the Brunswick Navy TACAN navigational aid. Portions of the designated airspace were described using the TACAN radials and distances. This action describes the airspace using the Airport Reference Point (ARP) as the sole point of origin instead of the airport and TACAN.

DATES: Effective 0901 UTC, September 1, 2005.

Comments for inclusion in the Rules Docket must be received on or before June 24, 2005.

ADDRESSES: Send comments on the rule to the Docket Management System, U.S. Department of Transportation, Room Plaza 401, 400 Seventh Street, SW., Washington, DC 20590-0001. You must identify the docket number, FAA-2005-21142/Airspace Docket No. 05-AEA-12, at the beginning of your comments. You may also submit comments on the Internet at http://dms.dot.gov. You may review the public docket containing the proposal, any comments received, and any final disposition in person at the Dockets Office between 9 am and 5 pm, Monday through Friday, except Federal holidays. The Docket Office (telephone 1-800-647-5527) is located on the plaza level of the Department of Transportation NASSIF Building at the street address stated above.

An informal docket may also be examined during normal business hours at the office of the Area Director, Eastern Terminal Operations, Federal Aviation Administration, 1 Aviation Plaza, Jamaica, NY 11434-4809; telephone (718) 553-4501; fax (718) 995-5691.

FOR FURTHER INFORMATION CONTACT: Mr. Francis Jordan, Airspace Specialist, Airspace and Operations, ETSU, 1 Aviation Plaza, Jamaica, NY 11434-4809; telephone (718) 553-4521; fax (718) 995-5693.

SUPPLEMENTARY INFORMATION: The FAA is revising the Class E-4 airspace designation at Brunswick, ME from one based on the Brunswick TACAN and the airport location to one based solely on the airport location. The FAA uses the Brunswick, ME E-4 airspace to accommodate aircraft using standard instrument approach procedures (SIAPs) to Brunswick NAS under Instrument Flight Rules (IFR). The current definition of the airspace area uses the Brunswick Navy TACAN as a reference point. Since the United States Navy is changing the location of the TACAN, the airspace description must be changed to reference only the Airport Reference Point (ARP). This change will not result in any changes in the size of the Brunswick E-4 controlled airspace area. Class E-4 airspace designations for airspace areas extending upward from the surface are published in paragraph 6004 of FAA Order 7400.9M, dated August 30, 2004, and effective September 16, 2004, which is incorporated by reference in 14 CFR 71.1. The Class E airspace designation listed in this document will be published subsequently in this Order.

The Direct Final Rule Procedure

The FAA anticipates that this regulation will not result in adverse or negative comment, and, therefore, issues it as a direct final rule. The FAA has determined that this regulation only involves an established body of technical regulations for which frequent and routine amendments are necessary to keep them operationally current. Unless a written adverse or negative comment or a written notice of intent to submit an adverse or negative comment is received within the comment period, the regulation will become effective on the date specified above. After the close of the comment period, the FAA will publish a document in the Federal Register indicating that no adverse or negative comments were received and confirming the date on which the final rule will become effective. If the FAA does receive, within the comment period, an adverse or negative comment, or written notice of intent to submit such a comment, a document withdrawing the direct final rule will be published in the Federal Register, and a notice of proposed rulemaking may be published with a new comment period.

Comments Invited

Although this action is in the form of a direct final rule, and was not preceded by a notice of proposed rulemaking, interested persons are invited to comment on this rule by submitting such written data, views, or arguments as they may desire. Communications must identify both docket numbers. All communications received on or before the closing date for comments will be considered, and this rule may be amended or withdrawn in light of the comments received. Factual information that supports the commenter's ideas and suggestions is extremely helpful in evaluating the effectiveness of this action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this action will be filed in the Rules Docket.

Agency Findings

This rule does not have federalism implications, as defined in Executive Order No. 13132, because it does not have a substantial direct effect on the States, on the relationship between the National Government and the States, or on the distribution of power and responsibilities among the various levels of government. Accordingly, the FAA has not consulted with state authorities prior to publication of this rule.

The FAA has determined that this regulation is noncontroversial and unlikely to result in adverse or negative comments. For the reasons discussed in the preamble, I certify that this regulation (1) is not a “significant regulatory action” under Executive Order 12866; (2) is not a “significant rule” under Department of Transportation (DOT) Regulatory Policies and Procedures (44 FR 11034, February 26, 1979); and (3) does not warrant preparation of a Regulatory Evaluation as these routine matters will only affect air traffic procedures and air navigation. It is certified that these proposed rules will not have significant economic impact on a substantial number of small entities under the criteria of the Regulatory Flexibility Act.

Authority for This Rulemaking

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103, Sovereignty and use of airspace. Under that section, the FAA is charged with issuing regulations to ensure the safety of aircraft and the efficient use of airspace. This regulation is within the scope of that authority since it defines controlled airspace in the vicinity of the Palmer Metropolitan Airport to ensure the safety of aircraft operating near that airport and the efficient use of that airspace.

List of Subjects in 14 CFR Part 71

Airspace, Incorporation by reference, Navigation (air).

Adoption of the Amendment

Accordingly, pursuant to the authority delegated to me, the Federal Aviation Administration amends part 71 of the Federal Aviation Regulations (14 CFR part 71) as follows:

PART 71—[AMENDED]

1. The authority citation for part 71 continues to read as follows:

Authority: 49 U.S.C. 106(g), 40103, 40113, 40120; E.O. 10854, 24 FR 9565, 3 CFR, 1959-1963 Comp., p. 389.

2. The incorporation by reference in 14 CFR 71.1 of Federal Aviation Administration Order 7400.9M, Airspace Designations and Reporting Points, dated August 30, 2004, and effective September 16, 2004, is amended as follows:

§ 71.1 [Amended]

Paragraph 6004—Class E airspace areas extending upward from the surface of the earth.

* * * * *

ANE ME E4 Brunswick, ME [Revised]

Brunswick NAS, ME

(Lat. 43°53′32″N, long. 69°56′19″W)

That airspace extending upward from the surface within 3 miles each side of the 169° bearing from the Brunswick NAS extending from the 4.3-mile radius of the airport to 6.5 miles south of the airport and within 2 miles each side of the 017° bearing from the Brunswick NAS extending from the 4.3-mile radius of the airport to 9.5 miles northeast of the airport.

* * * * *

Issued in Jamaica, New York, on May 18, 2005.
John G. McCartney,
Acting Area Director, Eastern Terminal Operations.

[FR Doc. 05-10419 Filed 5-24-05; 8:45 am]

BILLING CODE 4910-13-M